DEPARTMENT OF TRANSPORTATION

Federal Aviation Administration

14 CFR Part 13

[Docket No. FAA-2002-11483; Amendment No. 13-33]

RIN 2120-AI52

Revisions to the Civil Penalty Inflation Adjustment Rule and Tables; Correction

AGENCY: Federal Aviation Administration (FAA), DOT.

ACTION: Final rule, correction.

SUMMARY: This document contains corrections to the preamble of final rule published in the Federal Register on May 16, 2006, (71 FR 28518) and an amendment to the regulatory language. That final rule implements adjustments to certain civil monetary penalties under the Federal Civil Penalties Inflation Adjustment Act of 1990, as amended by the Debt Collection Improvement Act of 1996.

DATES: This amendment becomes effective August 16, 2006.

FOR FURTHER INFORMATION CONTACT: Joyce Redos, Office of the Chief Counsel, Enforcement Division, AGC-300, Federal Aviation Administration, 800 Independence Avenue, SW., Washington, DC 20591; telephone (202) 267-3137; facsimile (202) 267-5106; e-mail joyce.redos@faa.gov.

SUPPLEMENTARY INFORMATION:

Need for Correction

The final rule document published in the Federal Register on May 16, 2006 (71 FR 28518), contains two errors in the preamble. In addition, the final column was omitted from Table One of the regulatory language and the dates in the two footnotes to Table Two should be the effective date of the rule, not the date of publication. This publication corrects the errors in the preamble and amends the regulatory language.

In the May 16, 2006, Federal Register (FR Doc. 06-4524), make the following corrections to read as follows:

1. On page 28519, column 2, 10th line from the bottom, correct “insert effective date of rule” to read “June 15, 2006”.

2. On page 28519, column 3, 9th line from the bottom, remove the sentence beginning with the word “Based” and insert the following sentence to read “Based on a new inflation adjustment, as of June 15, 2006, the penalty is $11,000 per day.”

List of Subjects in 14 CFR Part 13

Administrative practice and procedure, Air transportation, Hazardous materials transportation, Investigations, Law enforcement, Penalties.

The Amendment

In conclusion of the foregoing, the Federal Aviation Administration amends part 13 of Title 14, Code of Federal Regulations, as follows:

PART 13—INVESTIGATIVE AND ENFORCEMENT PROCEDURES

1. The authority citation continues to read as follows:

Authority: 18 U.S.C. 6002, 28 U.S.C. 2461 (note); 49 U.S.C. 106(g), 5121-5124, 40113-40114, 44103-44106, 44702-44703, 44709-44710, 44713, 44718, 44725, 46101-46110, 46301-46316, 46318, 46501-46502, 46504-46507, 47106, 47111, 47122, 47306, 47531-47532.

2. Amend § 13.305 by revising Table 1 to read as follows:

§ 13.305 Cost of living adjustments of civil monetary penalties.

Table 1.—Table of Mimimum and Maximum Civil Monetary Penalty Amounts for Certain Violations Before December 12, 2003, and for Hazardous Materials Violations Before August 10, 2005
United States Code citation | Civil monetary penalty description | Mimimum penalty amount | New adjusted mimimum penalty amount | Maximum penalty amount when last set or adjusted pursuant to law | New or adjusted maximum penalty amount
49 U.S.C. 5123(a) | Violation of hazardous materials transportation law, regulation, or order | $250 per violation, last set 1990 | Same | $30,000 per violation, adjusted 3/13/02 | Same.
49 U.S.C. 46301(a)(1) | Violation under 49 U.S.C. 46301(a)(1) | N/A | N/A | $1,100 per violation, adjusted 1/21/1997 | Same.
49 U.S.C. 46301(a)(2) | Violations under 49 U.S.C. (a)(2)(A) or (B) by a person operating an aircraft for the transportation of passengers or property for compensation (except an airman serving as an airman) | N/A | N/A | $11,000 per violation, adjusted 1/21/1997 | Same.
49 U.S.C. 46301(a)(3)(A) | Violation under 498 U.S.C. 46301(a)(1) related to the transportation of hazardous materials | N/A | N/A | $11,000 per violation, adjusted 1/21/1997 | Same.
49 U.S.C. 46301(a)(3)(B) | Violation related to the registration or recordation under 49 U.S.C. chapter 441 of an aircraft not used to provide air transportation | N/A | N/A | $11,000 per violation, adjusted 1/21/1997 | Same.
49 U.S.C. 46301(a)(3)(C) | Violation of 49 U.S.C. 44718(d) relating to limiting construction or establishment of landfills | N/A | N/A | $10,000 per violation, set 10/9/1996 | Same.
49 U.S.C. 46301(a)(3)(D) | Violation of 49 U.S.C. 44725 relating to the safe disposal of life-limited aircraft parts | N/A | N/A | $10,000, set 4/5/2000 | Same.
49 U.S.C. 46301(a)(5) | Violation of 49 U.S.C. 47107(b) (or any assurance made under such section) or 49 U.S.C. 47133 | N/A | N/A | Increase above otherwise applicable maximum amount not to exceed 3 times the amount of revenues that are used in violation of such section | Same.
49 U.S.C. 46301(b) | Tampering with a smoke alarm device | N/A | N/A | $2,200, adjusted 1/21/1997 | Same.
49 U.S.C. 46302(a) | Knowingly providing false information about alleged violation involving the special aircraft jurisdiction of the United States | N/A | N/A | $11,000, adjusted 1/21/1997 | Same.
49 U.S.C. 46303 | Carrying a concealed dangerous weapon | N/A | N/A | $11,000, adjusted 1/21/1997 | Same.
49 U.S.C. 46318 | Interference with cabin or flight crew | N/A | N/A | $25,000, set 4/5/2000 | Same.
49 U.S.C. 47531 | Violation of 49 U.S.C. 47528-47530 relating to the prohibition of operating certain aircraft not complying with stage 3 noise levels | N/A | N/A | See 49 U.S.C. 46301(a)(1) and (a)(2), above | Same.
¹ FAA prosecutes violations under this section that occurred before February 17, 2002.

3. Amend § 13.305 by revising the footnotes to Table 2 to read as follows:

§ 13.305 Cost of living adjustments of civil monetary penalties.

* * * * *

Table 2.—Table of Minimum and Maximum Civil Monetary Penalty Amounts for Certain Violations Occurring On or After December 12, 2003
* * * * *
¹ The maximum penalty for a violation from 12/12/2003 until 6/15/2006 is $10,000.
² The maximum penalty for a violation from 4/5/2000 until 6/15/2006 is $25,000.

Dated: Issued in Washington, DC on August 11, 2006.
Rebecca McPherson,
Assistant Chief Counsel.

[FR Doc. 06-6953 Filed 8-15-06; 8:45 am]

BILLING CODE 4910-13-M